DEPARTMENT OF AGRICULTURE

Forest Service

Information Collection; Request for Comments; Nonprofit Organization Annual Report of Operations and Aid

AGENCY: Forest Service, USDA.

ACTION: Notice.

SUMMARY: In accordance with the Paperwork Reduction Act of 1995, the Forest Service, as lead agency, in cooperation with the U.S. Army Corps of Engineers, U.S. Department of Defense, the Bureau of Land Management, U.S. Fish and Wildlife Service and National Park Service, U.S. Department of the Interior; and the U.S. Geological Survey, propose to consolidate several existing, annual, agency-specific, cooperating and interpretive financial report forms for several Federal land management agencies. The purpose of consolidating the Federal financial forms from the cooperating agencies into one form is to provide a standard format and consistent reporting requirements for non-profit cooperators that may have agreements with several Federal agencies.

DATES: Comments must be received in writing on or before September 6, 2005, to be assured of consideration. Comments received after that date will be considered to the extent practicable.

ADDRESSES: Comments concerning this notice should be addressed to Kristen Nelson, Recreation and Heritage Resources Staff, Mail Stop 1125, Forest Service, USDA, 1400 Independence Avenue, SW., Washington, DC 20250-1125.

Due to potential delays in the Forest Service receiving and processing of mail sent through the U.S. Postal Service, respondents are encouraged to submit comments electronically to ensure timely receipt. We cannot guarantee that comments mailed will be received before the comment closing date.

Comments also may be submitted via facsimile to (202) 205-1145 or by e-mail to IAComments@fs.fed.us.

The public may inspect comments received at the Office of the Director, Recreation and Heritage Resources Staff, Yates Building, Forest Service, USDA, 201 14th Street, SW., 4th Floor Central, Washington, DC 20250, during normal business hours. Visitors are encouraged to call ahead to (202) 205-1706 to facilitate entry to the building.

FOR FURTHER INFORMATION CONTACT: Kristen Nelson, Recreation and Heritage Resources Staff, at (202) 205-1406. Individuals who use telecommunication devices for the deaf (TDD) may call the Federal Relay Service (FRS) at 1-800-877-8339 twenty-four hours a day, every day of the year, including holidays.

SUPPLEMENTARY INFORMATION: Title: Nonprofit Organization Annual Report of Operations and Aid.

OMB Number: 0596-New.

Expiration Date of Approval: N/A.

Type of Request: New.

Abstract: For over 25 years, Federal agencies, such as the Forest Service, Bureau of Land Management, and the National Park Service, have entered into agreements with non-profit organizations to serve visitors and meet their needs for quality guides, maps, and other education or interpretive literature. These non-profit organizations are frequently referred to as cooperating or interpretive associations and are mission-driven, private, non-profit organizations established under state law and adhering to applicable laws governing Federal tax-exempt 501(1)(3)(c) organizations. They assist Federal agencies primarily through selling educational and interpretive materials, providing information services, conducting educational programs and field institutes, and raising contributions to support the educational mission of these Federal land management agencies.

This notice addresses issues raised by the associations and some of those noted in the 2002 GAO audit of the National Park Service. The Executive Directors of the associations identified the need for improving and streamlining the annual operational, aid and financial reporting requirements of the Federal agencies. They also noted that the use of a single form by all of the agencies would increase consistency in reporting by the associations and would alleviate duplicative efforts and the time burden for filing independent agency-specific financial reports.

The Internal Revenue Service tax form (Form 990-OMB 1545-0047) was analyzed and compared to annual reporting forms of the Forest Service (OMB 0596-0097) and the National Park Service to determine the data elements common to the multiple forms and the data elements unique to any single form. Consolidation of these data elements is intended to reduce the reporting burden placed on the associations and to streamline the data collection process.

The immediate use of this proposed form will be in paper format. However, the data elements included in the paper form are intended for electronic submission sometime in the near future. We welcome comments on aspects of the proposed new Nonprofit Organization Annual Report of Operations and Aid. Questions you may wish to address include:

1. Is the format of the form easy to understand and complete?

2. Do you have suggestions for improvements in the appearance of the form?

3. Are the line items instructions understandable?

4. Have we sufficiently defined the terms?

5. Are there any data elements that could be eliminated from the form? (If you recommend eliminating a line, please explain your recommendation.)

6. Is there any additional information that would be useful to the users of the form?

Estimate of Annual Burden: 1 hour.

Type of Respondents: Executive Directors of Cooperating or Interpretive Associations and/or their accountants.

Estimated Annual Number of Respondents: 500.

Estimated Annual Number of Responses per Respondent: 1.

Estimated Total Annual Burden on Respondents: 500 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 24, 2005.
Gloria Manning,
Associate Deputy Chief, National Forest System.

BILLING CODE 3410-11-P

[FR Doc. 05-12998 Filed 7-1-05; 8:45 am]

BILLING CODE 3410-11-C